DEPARTMENT OF ENERGY

Office of Science

Office of Science Financial Assistance Program Notice 01-03; Nanoscale Science, Engineering, and Technology

AGENCY: U.S. Department of Energy (DOE).

ACTION: Notice inviting research grant applications.

SUMMARY: The Office of Basic Energy Sciences (BES) of the Office of Science (SC), U.S. Department of Energy (DOE), hereby announces its interest in receiving grant applications for innovative research on the topic of nanoscale science, engineering and technology. Opportunities exist for research with primary focus in materials sciences, chemical sciences, and engineering sciences. More specific information is outlined in the supplementary information section below.

DATES: Potential applicants are strongly encouraged to submit a brief preapplication. All preapplications, referencing Program Notice 01-03, should be received by DOE by 4:30 p.m., E.S.T., January 12, 2001. A response to the preapplications encouraging or discouraging a formal application generally will be communicated to the applicant within 21 days of receipt. The deadline for receipt of formal applications is 4:30 p.m., E.S.T. March 14, 2001, in order to be accepted for merit review and to permit timely consideration for award in Fiscal Year 2001.

ADDRESSES: All preapplications referencing Program Notice 01-03 should be sent to Dr. Jerry J. Smith, Division of Materials Sciences and Engineering, SC-13, Office of Science, U.S. Department of Energy, 19901 Germantown Road, Germantown MD 20874-1290. Formal applications referencing Program Notice 01-03 should be forwarded to: U.S. Department of Energy, Office of Science, Grants and Contracts Division, SC-64, 19901 Germantown Road, Germantown, Maryland 20874-1290, ATTN: Program Notice 01-03. This address must also be used when submitting applications by U.S. Postal Service Express, any commercial mail delivery service, or when hand carried by the applicant.

FOR FURTHER INFORMATION CONTACT: For questions concerning research topics in specific technical areas, contact the following individuals in the appropriate area of interest:

Materials Sciences: Dr. Jerry J. Smith, Division of Materials Sciences and Engineering, SC-13, Office of Science, U.S. Department of Energy, 19901 Germantown Road, Germantown, MD 20874-1290, telephone (301) 903-4269, e-mail: jerry.smith@science.doe.gov.

Chemical Sciences: Dr. Paul H. Smith, Division of Chemical Sciences, Geosciences, and Biosciences, SC-14, Office of Science, U.S. Department of Energy, 19901 Germantown Road, Germantown, MD 20874-1290, telephone (301) 903-5806, e-mail: paul.h.smith@science.doe.gov.

Engineering Sciences: Dr. Robert Price, Division of Materials Sciences and Engineering, SC-13, Office of Science, U.S. Department of Energy, 19901 Germantown Road, Germantown, MD 20874-1290, telephone (301) 903-3565, e-mail: bob.price@science.doe.gov.

SUPPLEMENTARY INFORMATION: Controlling and manipulating matter at the atomic and molecular scale is the essence of nanoscale science, engineering, and technology (NSET). The BES program has worked with the National Science and Technology Council's Interagency Working Group on Nanotechnology, with the Basic Energy Sciences Advisory Committee (BESAC), and with the broad scientific community from academia, industry, and the National Laboratories to define and articulate the goals of this research.

The BES program in NSET has the following overarching goals: (1) Attain a fundamental scientific understanding of nanoscale phenomena; (2) achieve the ability to design and synthesize materials at the atomic level to produce materials with desired properties and functions; (3) attain a fundamental understanding of the natural processes for the creation of materials and functional systems to serve as a guide and a benchmark by which to measure progress in synthetic design and synthesis; and (4) develop experimental characterization tools and theory/modeling/simulation tools necessary to understand, predict, and control nanoscale phenomena.

Two recent reports prepared by the BES program, which address both NSET research and broader program goals that are dependent on nanoscale understanding, are available on the internet. These reports are Complex Systems: Science for the 21st Century (1999) available at: http://www.sc.doe.gov/production/bes/complexsystems.htm and Nanoscale Science, Engineering and Technology Research Directions (1999) available at: http://www.sc.doe.gov/production/bes/nanoscale.html. These reports detail current topics supported by BES in the area of NSET, describe future research directions, and should be used as a guide to appropriate proposal topics. Applications in these areas will be accepted from individual investigators or groups of 2-4 investigators.

Program Funding

It is anticipated that up to $18 million will be available for grant awards during FY 2001, contingent upon the availability of appropriated funds. Multiple year funding of grant awards is expected, also contingent upon the availability of appropriated funds, progress of the research and continuing program need. Applications received by the Office of Science, Office of Basic Energy Sciences, under its current competitive application mechanisms may be deemed appropriate for consideration under this notice and may be funded under this program.

Preapplications

A brief preapplication may be submitted. The preapplication should identify on the cover sheet the institution, principal investigator name, address, telephone, fax and e-mail address, title of the project, and the field of scientific research. The preapplication should consist of no more than a three-page narrative describing the research project objectives and methods of accomplishment. These will be reviewed relative to the scope and research needs of the Nanoscale Science, Engineering, and Technology initiative and DOE programmatic needs. Preapplications are strongly encouraged but not required prior to submission of a formal application. Please note that notification of a successful preapplication is not an indication that an award will be made in response to the formal application.

Merit Review

Applications will be subjected to scientific merit review (peer review) and will be evaluated against the following evaluation criteria listed in descending order of importance as codified at 10 CFR Part 605.10(d) (www.sc.doe.gov/production/grants/605index.html):

1. Scientific and/or technical merit of the project;

2. Appropriateness of the proposed method or approach;

3. Competency of applicant's personnel and adequacy of proposed resources; and

4. Reasonableness and appropriateness of the proposed budget.

The evaluation will include program policy factors such as the relevance of the proposed research to the terms of the announcement and an agency's programmatic needs. Note, external peer reviewers are selected with regard to both their scientific expertise and the absence of conflict-of-interest issues. Non-federal reviewers may be used and submission of an application constitutes agreement that this is acceptable to the investigator(s) and the submitting institution. Applicants are encouraged to collaborate with researchers in other institutions, such as universities, industry, non-profit organizations, federal laboratories and Federally Funded Research and Development Centers (FFRDCs), including the DOE National Laboratories. A parallel invitation with a similar potential total amount of funds has been sent to DOE FFRDCs. All projects will be evaluated using the same criteria, regardless of the submitting institution.

Information about the development and submission of applications, eligibility, limitations, evaluation, selection process, and other policies and procedures may be found in 10 CFR Part 605 and in the Application Guide for the Office of Science Financial Assistance Program. Electronic access to the Guide and required forms is available via the World Wide Web at: http://www.sc.doe.gov/production/grants/grants.html. On the grant face page, form DOE F 4650.2, block 15, provide the principal investigator's phone number, fax number and e-mail address. The research description must be 20 pages or less, exclusive of figure illustrations, and must contain an abstract or summary of the proposed research. Attachments include curriculum vitae, a listing of all current and pending federal support, and letters of intent when collaborations are part of the proposed research.

The Catalog of Federal Domestic Assistance Number for this program is 81.049, and the solicitation control number is ERFAP 10 CFR Part 605.
Issued in Washington, DC on November 17, 2000.
John Rodney Clark,
Associate Director of Science for Resource Management.

[FR Doc. 00-30640 Filed 11-30-00; 8:45 am]

BILLING CODE 6450-01-P